DEPARTMENT OF TRANSPORTATION

Federal Railroad Administration

[Docket Number FRA-1999-5102]

Petition for Waiver of Compliance

Under part 211 of Title 49 of the Code of Federal Regulations (CFR), this provides the public notice that on August 25, 2017, the Southeastern Pennsylvania Transportation Authority (SEPTA) petitioned the Federal Railroad Administration (FRA) for an extension of a waiver of compliance from certain provisions of the Federal railroad safety regulations contained at 49 CFR part 213, Track Safety Standards. The docket number associated with this petition is FRA-1999-5102.

SEPTA seeks to extend its existing waiver from 49 CFR 213.233(c), relating to the frequency of the required visual track inspections for FRA Class 3 and 4 track carrying passenger traffic. FRA issued the initial waiver on July 24, 2000, and FRA extended the waiver on August 4, 2003, February 28, 2008, and April 25, 2013 for three 5-year periods.

SEPTA requests an extension of its existing waiver to conduct fewer visual track inspections than required by § 213.233(c), specifically for tracks constructed with continuous welded rail that carry passenger traffic. SEPTA proposes to continue conducting one visual track inspection per week, instead of the two inspections per week that are required, and to supplement its visual inspections with the operation of an automated track geometry measuring vehicle over the affected main tracks and sidings four times per year. SEPTA has owned and operated such a measuring vehicle since 1992.

A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 20, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-21510 Filed 10-5-17; 8:45 am]

BILLING CODE 4910-06-P